DEPARTMENT OF TRANSPORTATION

National Highway Traffic Safety Administration

[NHTSA Docket No. NHTSA-2011-0048]

Renewal of Charter for the National Emergency Medical Services Advisory Council (NEMSAC)

AGENCY: National Highway Traffic Safety Administration (NHTSA), U.S. Department of Transportation.

ACTION: Notice.

SUMMARY: The Secretary of Transportation announces the renewal of the National Emergency Medical Services Advisory Council to provide advice and recommendations regarding emergency medical services (EMS) matters to the U.S. Department of Transportation, National Highway Traffic Safety Administration and through NHTSA to the Federal Interagency Committee on Emergency Medical Services. The NHTSA's Office of EMS serves as sponsor of the Advisory Council for the Secretary. The purpose of this notice is to inform interested parties of the renewal of NEMSAC.

FOR FURTHER INFORMATION CONTACT: Drew Dawson, Director, NHTSA Office of EMS, (202) 366-9966 or via e-mail at drew.dawson@dot.gov. You may also contact Noah Smith at the Office of EMS at (202) 366-5030 or via e-mail at noah.smith@dot.gov. The Office of EMS fax number is (202) 366-7149.

SUPPLEMENTARY INFORMATION: This notice of NEMSAC's charter renewal is given under the Federal Advisory Committee Act, Public Law 92-463, as amended (5 U.S.C. App.).

Issued on: April 15, 2011.
Michael L. Brown,
Acting Associate Administrator for Research and Program Development.

[FR Doc. 2011-9612 Filed 4-19-11; 8:45 am]

BILLING CODE 4910-59-P